DEPARTMENT OF TRANSPORTATION

Federal Aviation Administration

14 CFR Part 39

[Docket No. FAA-2005-21343; Directorate Identifier 2004-NM-117-AD]

RIN 2120-AA64

Airworthiness Directives; Airbus Model A300 B4-600, B4-600R, and F4-600R Series Airplanes, and Model C4-605R Variant F Airplanes (Collectively Called A300-600 Series Airplanes); and Model A310 Series Airplanes

AGENCY: Federal Aviation Administration (FAA), Department of Transportation (DOT).

ACTION: Notice of proposed rulemaking (NPRM).

SUMMARY: The FAA proposes to adopt a new airworthiness directive (AD) for certain Airbus models, as specified above. This proposed AD would require modifying the aft pressure bulkhead for improved corrosion protection and drainage, and related concurrent actions. This proposed AD is prompted by severe corrosion found in the lower rim area of the aft pressure bulkhead during routine maintenance of an airplane. We are proposing this AD to prevent corrosion on the inner rim angle and cleat profile splice of the aft pressure bulkhead, which could result in the loss of airplane structural integrity.

DATES: We must receive comments on this proposed AD by July 5, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-21343; the directorate identifier for this docket is 2004-NM-117-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-21343; Directorate Identifier 2004-NM-117-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A300 B4-600, B4-600R, and F4-600R series airplanes, and Model C4-605R Variant F airplanes (collectively called A300-600 series airplanes); and Model A310 series airplanes. The DGAC advises that severe corrosion has been found in the lower rim area of the aft pressure bulkhead during routine maintenance of an airplane that has been in service for 10 years. On several other airplanes, less severe corrosion also has been found on the inner rim angle of the bulkhead in the area of the drain hole and on the cleat profile splice at the airplane centerline. Damage to the surface protection during cleaning of the drain hole or during incorporation of certain Airbus service bulletins could lead to corrosion on the inner rim angle of the bulkhead. Also, clogged drain holes or incomplete adhesion of the sealant during incorporation of certain Airbus service bulletins could lead to corrosion on the cleat profile splice. Corrosion on the inner rim angle and cleat profile splice of the aft pressure bulkhead, if not corrected, could result in the loss of airplane structural integrity.

Other Related Rulemaking

On March 3, 1988, we issued AD 88-06-03, amendment 39-5871 (53 FR 7730, March 10, 1988), applicable to certain Airbus Model A310 series airplanes. That AD requires repetitive X-ray or eddy current inspections of the rear pressure bulkhead for cracks and repair if cracks are found; and modification of the attachment of the rear pressure bulkhead to FR 80/82. If paragraph A.2. of AD 88-06-03 has been accomplished in accordance with Airbus Service Bulletin A310-53-2025, original issue, dated April 21, 1986, or Revision 3, dated April 7, 1987, operators do not need to do the related concurrent actions for Model A310 series airplanes that would be required by this proposed AD.

Relevant Service Information

Airbus has issued service bulletins A300-53-6017 (for Model A300-600 series airplanes) and A310-53-2036 (for Model A310 series airplanes), both Revision 02, both dated February 25, 2004. The service bulletins describe procedures for modifying the aft pressure bulkhead for improved corrosion protection and drainage, and related concurrent actions. The modification includes the following actions:

1. Removing the existing corrosion protection at the aft pressure bulkhead, which includes raising or renewing sealant beads between the cleat profile, rim angle, and circumferential strap up to STGR27; and applying a corrosion inhibitor in the whole area of the aft pressure bulkhead up to STGR27.

2. Enlarging the drain hole in the cleat profile, which includes reworking the attachment angles; and removing the sealant between the cleat profile, rim angle, and circumferential strap up to STGR27 if the sealant beads are damaged.

3. Applying sealant and corrosion inhibitor at FR80 up to STGR27.

4. Replacing the heat and sound insulation between FR79 and FR80.

Accomplishing the actions specified in the service information is intended to adequately address the unsafe condition. The DGAC mandated the service information and issued French airworthiness directive F-2004-004, dated January 7, 2004, to ensure the continued airworthiness of these airplanes in France.

Airbus Service Bulletin A300-53-6017 specifies prior or concurrent accomplishment of Airbus Service Bulletin A300-53-6006, Revision 3, dated March 24, 1989 (for Model A300-600 series airplanes).

Airbus Service Bulletin A310-53-2036 specifies prior or concurrent accomplishment of Airbus Service Bulletin A310-53-2025, Revision 5, dated March 24, 1989 (for Model A310 series airplanes).

Concurrent Service Bulletins

Airbus Service Bulletins A300-53-6006 and A310-53-2025 describe procedures for modifying the aft pressure bulkhead to improve the fatigue life of the attachment angles at FR80/82. The modification includes the following:

• For certain airplanes, doing a visual inspection around the entire circumference between FR80/82 and the aft pressure bulkhead for damaged filler; and if filler material is lacking or damaged, removing the damaged filler and adjacent area around damage.

• On airplanes that have accumulated between 6,000 and 12,000 total flight cycles, inspecting the critical area from STGR7 to STGR17, left and right; and if cracks are found, repairing the aft pressure bulkhead between STGR9 and STGR13.

• Removing the sealant on the whole circumference from between FR80/82 and the aft pressure bulkhead.

• Installing additional attachment angles on the circumference of FR80/82.

• Filling the space between the aft pressure bulkhead and FR80/82 beginning at STGR57 with a certain filler.

• Installing additional supports between the aft pressure bulkhead and FR80/82 in the area of STGR9.

• Installing an additional frame stiffener and support between the aft pressure bulkhead and FR79 at STGR13.

• Modifying the aft lavatories by installing a new, upper sidewall panel and affixing strips of tape on certain areas of the new, upper sidewall panel.

• Applying surface protection to the modified area of the aft pressure bulkhead.

• Modifying, reidentifying, and installing the heat and sound insulation in the area of STGR9 and STGR 13, left and right, and between FR79 and FR80/82, left and right.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Clarification of Inspection Terminology

The “visual inspection” specified in the concurrent service bulletins is referred to as a “general visual inspection” in this proposed AD. We have included the definition for a general visual inspection in a note in the proposed AD.

Costs of Compliance

The following table provides the estimated costs (at an average labor rate of $65 per hour) for U.S. operators to comply with this proposed AD.

Estimated Costs
Models | Action | Work hours | Parts | Cost per airplane | Number of U.S. registered airplanes | Fleet cost
A300-600 series airplanes | Modification | 34 | $1,200 | $3,410 | 0 | $0.
| Concurrent Action¹ | Between 590 and 660 | Between $2,442 and $9,884 | Between $40,792 and $52,784 | 0 | $0.
A310 series airplanes | Modification | 34 | $1,200 | $3,410 | 52 | $177,320.
| Concurrent Action¹ | Between 590 and 660 | Between $2,442 and $9,884 | Between $40,792 and $52,784 | 52 | Between $2,121,184 and $2,744,768.
¹ The number of work hours and estimated costs for concurrent actions depend on airplane configuration.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-21343; Directorate Identifier 2004-NM-117-AD.

Comments Due Date

(a) The Federal Aviation Administration must receive comments on this AD action by July 5, 2005.

Affected ADs

(b) None.

Applicability

(c) This AD applies to Airbus Model A300 B4-600, B4-600R, and F4-600R series airplanes, and Model C4-605R Variant F airplanes (collectively called A300-600 series airplanes); and Model A310 series airplanes; certificated in any category; except those modified in production by Airbus Modification 6788.

Unsafe Condition

(d) This AD was prompted by severe corrosion found in the lower rim area of the aft pressure bulkhead during routine maintenance of an airplane. We are issuing this AD to prevent corrosion on the inner rim angle and cleat profile splice of the aft pressure bulkhead, which could result in the loss of airplane structural integrity.

Compliance

(e) You are responsible for having the actions required by this AD performed within the compliance times specified, unless the actions have already been done.

Service Bulletin References

(f) The term “service bulletin,” as used in this AD, means the Accomplishment Instructions of the following service bulletins listed in Table 1 of this AD, as applicable:

Table 1.—Service Bulletin References
Models | Requirement | Airbus service bulletin
A300-600 series airplanes | Paragraph (g) of this AD | A300-53-6017, Revision 02, dated February 25, 2004.
| Paragraph (h) of this AD | A300-53-6006, Revision 3, dated March 24, 1989.
A310 series airplanes | Paragraph (g) of this AD | A310-53-2036, Revision 02, dated February 25, 2004.
| Paragraph (h) of this AD | A310-53-2025, Revision 5, dated March 24, 1989.

Modification To Improve Corrosion Protection and Drainage

(g) Within 60 months after the effective date of this AD, modify the aft pressure bulkhead for improved corrosion protection and drainage by doing all of the actions specified in the Accomplishment Instructions of the applicable service bulletin.

Concurrent Modification To Improve Attachment Angles

(h) Before or concurrently with accomplishing the modification required by paragraph (g) of this AD, modify the aft pressure bulkhead to improve the fatigue life of the attachment angles at FR80/82 by doing all of the actions specified in the Accomplishment Instructions of the applicable service bulletin. Where the service bulletin specifies doing a visual inspection around the entire circumference between FR80/82 and the aft pressure bulkhead for damaged filler, do a general visual inspection.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Credit for Concurrent Actions

(i) For Model A310 series airplanes, accomplishment of the actions specified in paragraph A.2. of AD 88-06-03, amendment 39-5871 (53 FR 7730, March 10, 1988), is considered acceptable for compliance with the requirements of paragraph (h) of this AD.

Credit for Previous Service Bulletins

(j) Actions done before the effective date of this AD in accordance with Airbus Service Bulletin A310-53-2036, Revision 01, dated October 9, 2003 (for Model A310 series airplanes), are acceptable for compliance with the requirements of paragraph (g) of this AD.

Alternative Methods of Compliance (AMOCs)

(k) The Manager, International Branch, ANM-116, Transport Airplane Directorate, FAA, has the authority to approve AMOCs for this AD, if requested in accordance with the procedures found in 14 CFR 39.19.

Related Information

(l) French airworthiness directive F-2004-004, dated January 7, 2004, also addresses the subject of this AD.

Issued in Renton, Washington, on May 26, 2005.
Ali Bahrami,
Manager, Transport Airplane Directorate, Aircraft Certification Service.

[FR Doc. 05-11062 Filed 6-2-05; 8:45 am]

BILLING CODE 4910-13-P